DEPARTMENT OF ENERGY

Federal Energy Regulatory Commission

[Project No. 2615-037]

FPL Energy Maine Hydro LLC; Madison Paper Industries; Merimil Limited Partnership; Notice of Availability of Final Environmental Assessment

In accordance with the National Environmental Policy Act of 1969 and the Federal Energy Regulatory Commission's regulations, 18 CFR part 380 (Order No. 486, 52 FR 47897), the Office of Energy Projects has reviewed the application for a new license for the 4.18-megawatt Brassua Hydroelectric Project, located on the Moose River, in Somerset County, Maine, and has prepared a final Environmental Assessment (FEA) for the project.

The FEA contains staff's analysis of the potential environmental effects of continued operation of the project and concludes that continued operation, with appropriate environmental measures, would not constitute a major federal action that would significantly affect the quality of the human environment.

A copy of the FEA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Steve Kartalia at (202) 502-6131.

Dated: September 14, 2011.
Kimberly D. Bose,
Secretary.

[FR Doc. 2011-24092 Filed 9-19-11; 8:45 am]

BILLING CODE 6717-01-P